NUCLEAR REGULATORY COMMISSION

[Docket Nos. 50-361 and 50-362]

Southern California Edison Company, San Diego Gas and Electric Company, the City of Riverside, CA, Notice of Withdrawal of Application for Amendment to Facility Operating License

The U.S. Nuclear Regulatory Commission (the Commission) has granted the request of Southern California Edison (the licensee) to withdraw its February 28, 2006, application for proposed amendment to Facility Operating License Nos. NPF-10 and NPF-15 for the San Onofre Nuclear Generating Station, Units 2 and 3, located in San Diego County, California.

The proposed amendment would have revised Technical Specifications (TSs) 3.8.1, “AC [alternating current] Sources—Operating,” 3.8.4, “DC [direct current] Sources—Operating,” 3.8.5, “DC Sources—Shutdown,” 3.8.6, “Battery Cell Parameters,” 3.8.7, “Inverters—Operating,” and 3.8.9, “Distribution Systems—Operating.” This change would have also added a new Battery Monitoring and Maintenance Program, Section 5.5.2.16.

The Commission had previously issued a Notice of Consideration of Issuance of Amendment published in the Federal Register on July 5, 2006 (71 FR 38185). However, by letter dated March 15, 2007, the licensee withdrew the proposed change.

For further details with respect to this action, see the application for amendment dated February 28, 2006, and the licensee's letter dated March 15, 2007, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 23rd day of March 2007.
For the Nuclear Regulatory Commission.
Nageswaran Kalyanam,
Project Manager, Plant Licensing Branch IV, Division of Operating Reactor Licensing, Office of Nuclear Reactor Regulation.

[FR Doc. E7-5936 Filed 3-29-07; 8:45 am]

BILLING CODE 7590-01-P